DEPARTMENT OF COMMERCE

National Oceanic and Atmospheric Administration

[I.D.090500C]

Marine Mammals; File No. P368D

AGENCY: National Marine Fisheries Service (NMFS), National Oceanic and Atmospheric Administration (NOAA), Commerce.

ACTION: Isuance of permit amendment.

SUMMARY: Notice is hereby given that Dr. James T. Harvey, Moss Landing Marine Laboratories, P.O. Box 450, Moss Landing, CA 95039-0450 has been issued an amendment to scientific research Permit No. 938.

ADDRESSES: The amendment and related documents are available for review upon written request or by appointment in the following office(s):

Permits and Documentation Division, Office of Protected Resources, NMFS, 1315 East-West Highway, Room 13705, Silver Spring, MD 20910 (301/713-2289);

Regional Administrator, Alaska Region, NMFS, P.O. Box 21668, Juneau, AK 99802 (907/586-7221).

FOR FURTHER INFORMATION CONTACT: Simona Roberts or Ruth Johnson, 301/713-2289.

SUPPLEMENTARY INFORMATION: On August 7, 2000, notice was published in the Federal Register (65 FR 48221) that an amendment of Permit No. 938, issued February 2, 1995 (60 FR 7753), had been requested by the above-named organization. The requested amendment has been granted under the authority of the Marine Mammal Protection Act of 1972, as amended (16 U.S.C. 1361 et seq.) and the Regulations Governing the Taking and Importing of Marine Mammals (50 CFR part 216).

Permit No. 938 authorizes the permit holder to take various species of marine mammals of the suborders Mysticeti, Odontoceti, Pinnipedia, and southern sea otter of the California coast annually during: aerial and vessel surveys, behavioral observations, photographic identification, and VHF and TDR tagging. With this amendment, the permit holder is now authorized to place implantable VHF and TDR tags on up to eight killer whales in southeast Alaska.

Dated: September 12, 2000.
Ann D. Terbush,
Division Chief, Permits and Documentation Division, Office of Protected Resources, National Marine Fisheries Service.

[FR Doc. 00-23919 Filed 9-15-00; 8:45 am]

BILLING CODE 3510-22-S